DEPARTMENT OF DEFENSE

Office of the Secretary

Science and Technology Reinvention Laboratory Personnel Management Demonstration Project at the U.S. Army Engineer Research and Development Center; Notice

AGENCY: Office of the Deputy Assistant Secretary of Defense (Civilian Personnel Policy), DoD.

ACTION: Notice of amendment of the demonstration project plan.

SUMMARY: The National Defense Authorization Act for Fiscal Year 1995, as amended by section 1114 of the National Defense Authorization Act for Fiscal Year 2001, authorizes the Secretary of Defense to conduct personnel demonstration projects at Department of Defense (DoD) laboratories designated as Science and Technology (S&T) Reinvention Laboratories. The above-cited legislation authorizes DoD to conduct demonstration projects that experiment with new and different personnel management concepts to determine whether such changes in personnel policy or procedures would result in improved Federal personnel management. This amendment revises the Engineer Research and Development Center (ERDC) project plan by realigning two occupational series to the Administrative occupational family: the Outdoor Recreation Planning (0023) and the Environmental Protection Specialist (0028) series; and to clarify that nothing in the plan is intended to preclude adopting or incorporating any law enacted or regulation issued within the period of the project's duration.

DATES: This amendment to the demonstration project may be implemented beginning on the date of publication of this notice in the Federal Register.

FOR FURTHER INFORMATION CONTACT: ERDC: Dr. C. H. Pennington, U.S. Army Engineer Research and Development Center, ATTN: CEERD-ZA-VE, 3909 Halls Ferry Road, Vicksburg, Mississippi 39180-6199. DoD: Ms. Patricia M. Stewart, CPMS-AF, 1400 Key Boulevard, Suite B-200, Arlington, VA 22209-5144.

SUPPLEMENTARY INFORMATION:

1. Background

The final plan was published in the Federal Register for the following S&T Reinvention Laboratory Demonstration Project: U.S. Army Engineer Waterways Experiment Station (WES) (Tuesday, March 3, 1998, Volume 63, Number 41, Part IV, page 10462). This final plan was corrected and re-published in the Federal Register (Wednesday, March 25, 1998, Volume 63, Number 57, Part V, page 14580). Note: The WES demonstration project was renamed the ERDC demonstration project following consolidation of the Army Corps of Engineers' laboratories.

Amendments to the final plan were published in the Federal Register as follows: To expand coverage of the WES demonstration project to include the Construction Engineering Research Laboratory, Cold Regions Research and Engineering Laboratory, and Topographic Engineering Center (Friday, October 16, 1998, Volume 63, Number 200, Part V, page 55770); to add competitive examining and Distinguished Scholastic Achievement Appointment authorities as part of the ERDC plan (Thursday, March 11, 1999, Volume 64, Number 47, Part II, page 12216); and to change reduction-in-force procedures to recognize performance based on the average of the last three annual performance scores in the most recent 4-year period as a criterion to establish retention registers (Monday, May 22, 2000, Volume 65, Number 65, Part 99, page 32135).

This demonstration project involves simplified job classification, pay banding, a performance-based compensation system, employee development provisions, and modified reduction-in-force procedures.

2. Overview

This amendment realigns the 0023, Outdoor Recreation Planning, and 0028, Environmental Protection Specialist, series from the demonstration's Engineers and Scientists and E&S Technicians occupational families to its Administrative family, in order to improve classification consistency.

I. Executive Summary

The Department of the Army established the ERDC personnel demonstration project to be generally similar to the system in use at the Department of the Navy personnel demonstration project known as China Lake. The ERDC project was built upon the concepts of linking performance to pay for all covered positions; simplifying paperwork in the processing of classification and other personnel actions; emphasizing partnerships among management, employees, and unions; and delegating authorities to line managers.

II. Introduction

A. Purpose

The demonstration project at the ERDC intends to provide managers the authority, control, and flexibility needed to achieve quality laboratories and quality products. The purpose of this amendment is to modify the demonstration's position classification system by realigning two occupational series to a different occupational family. Other basic provisions of the approved ERDC project plan are unchanged.

B. Employee Notification and Collective Bargaining Requirements

Employees affected by this amendment will be provided a copy of this notice. Participating organizations must fulfill any collective bargaining obligations to unions that represent employees covered by the demonstration.

C. Problems With the Present System

Currently, the Outdoor Recreation Planning series (0023) is assigned to the Engineers and Scientists occupational family. It is the only series assigned to this occupational family that is not a professional occupation (i.e., one with positive education requirements). The OPM Handbook of Occupational Groups and Families includes this series in the Miscellaneous Occupations group, rather than in one of the occupational groups for science or engineering. The work performed by the 0023 series is properly categorized as administrative.

The Environmental Protection Specialist (0028) series is assigned to the E&S Technicians occupational family. The proper category for Environmental Protection Specialist (0028) is administrative. This series is similar to other two-grade occupations in that occupational family, such as Safety & Occupational Health Specialist (0018), General Supply Specialist (2001), and Transportation Specialist (2101).

D. Changes and Expected Benefits

The Outdoor Recreation Planning (0023) and the Environmental Protection Specialist (0028) series are being realigned to the Administrative occupational family. This is consistent with other series in the Administrative occupational family that are excluded from assigning functional codes and perform two-grade interval work. The Engineers and Scientists occupational family will now consist exclusively of positions in professional series.

Additionally, a provision is being added to clarify that nothing in the demonstration project plan is intended to preclude adopting or incorporating any law enacted or regulation issued within the period of the project's duration.

III. Personnel System Changes

Realignment of the Outdoor Recreational Planning (0023) and the Environmental Protection Specialist (0028) series to the Administrative occupational family requires amendment to the final ERDC project plan published in the Federal Register (Wednesday, March 25, 1998, Volume 63, Number 57, Part V, page 14580). Specifically, Section II. E (page 14584), Table 2. Occupational Series Included in the Demonstration Project, is amended as follows:

Engineers and Scientists
Delete | 0023 | Outdoor Recreation Planner.
E&S Technicians
Delete | 0028 | Environmental Protection Specialist
Administrative
Add | 0023 | Outdoor Recreational Planning
Add | 0028 | Environmental Protection Specialist

Additionally, Section IX, Required Waivers to Law and Regulation, is amended by inserting after the first paragraph, a new paragraph as follows: “The following waivers and adaptations of certain Title 5, U.S.C., provisions are required only to the extent that these statutory provisions limit or are inconsistent with the actions contemplated under this demonstration project. Nothing in this plan is intended to preclude the demonstration project from adopting or incorporating any law or regulation enacted, adopted, or amended after the effective date of this demonstration project.”

Dated: January 30, 2002.
Patricia L. Toppings,
Alternate OSD Federal Register Liaison Officer, Department of Defense.

[FR Doc. 02-2765 Filed 2-5-02; 8:45 am]

BILLING CODE 5001-08-P